DEPARTMENT OF TRANSPORTATION

Federal Aviation Administration

14 CFR Part 39

[Docket No. FAA-2020-1175; Product Identifier 2018-SW-071-AD]

RIN 2120-AA64

Airworthiness Directives; Bell Textron Canada Limited Helicopters

AGENCY: Federal Aviation Administration (FAA), DOT.

ACTION: Notice of proposed rulemaking (NPRM).

SUMMARY: The FAA proposes to supersede Airworthiness Directive (AD) 2013-20-13 for certain Bell Helicopter Textron Canada Limited (now Bell Textron Canada Limited) (Bell) Model 206B and 206L helicopters. AD 2013-20-13 requires installing a placard beneath the engine power dual tachometer and revising the Operating Limitations section of the existing Rotorcraft Flight Manual (RFM) for your helicopter. Since the FAA issued AD 2013-20-13, the engine manufacturer expanded the RPM (N2) steady-state operation avoidance range limits. This proposed AD would retain certain requirements of AD 2013-20-13, require revising certain sections of the existing RFM for your helicopter, and require either replacing or installing a placard. The actions of this proposed AD are intended to address an unsafe condition on these products.

DATES: The FAA must receive comments on this proposed AD by April 26, 2021.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2020-1175; or in person at Docket Operations between 9 a.m. and 5 p.m., Monday through Friday, except Federal holidays. The AD docket contains this proposed AD, the Transport Canada AD, any comments received and other information. The street address for Docket Operations is listed above. Comments will be available in the AD docket shortly after receipt.

For service information identified in this proposed rule, contact Bell Textron Canada Limited, 12,800 Rue de l'Avenir, Mirabel, Quebec J7J1R4; telephone 450-437-2862 or 800-363-8023; fax 450-433-0272; or at https://www.bellcustomer.com. You may view this referenced service information at the FAA, Office of the Regional Counsel, Southwest Region, 10101 Hillwood Pkwy., Room 6N-321, Fort Worth, TX 76177.

FOR FURTHER INFORMATION CONTACT: Michael Hughlett, Aviation Safety Engineer, General Aviation & Rotorcraft Section, International Validation Branch, FAA, 10101 Hillwood Pkwy., Fort Worth, TX 76177; telephone 817-222-5889; email Michael.Hughlett@faa.gov.

SUPPLEMENTARY INFORMATION:

Comments Invited

The FAA invites you to send any written relevant data, views, or arguments about this proposal. Send your comments to an address listed under ADDRESSES. Include “Docket No. FAA-2020-1175; Product Identifier 2018-SW-071-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regualations.gov, including any personal information you provide. The agency will also post a report summarizing each substantive verbal contact received about this proposal.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Michael Hughlett, Aviation Safety Engineer, General Aviation & Rotorcraft Section, International Validation Branch, FAA, 10101 Hillwood Pkwy., Fort Worth, TX 76177; telephone 817-222-5889; email Michael.Hughlett@faa.gov. Any commentary that the FAA receives which is not specifically designated as CBI will be placed in the public docket for this rulemaking.

Discussion

The FAA issued AD 2013-20-13, Amendment 39-17619 (78 FR 66252, November 5, 2013) for certain Bell Model 206B and 206L helicopters. AD 2013-20-13 requires installing a placard beneath the engine power dual tachometer and revising the Operating Limitations section of the existing RFM for your helicopter. AD 2013-20-13 was prompted by several incidents of third stage engine turbine wheel failures, which were caused by excessive vibrations at certain engine speeds during steady-state operations. Those actions are intended to alert pilots to avoid certain engine speeds during steady-state operations, and prevent failure of the third stage engine turbine, engine power loss, and subsequent loss of control of the helicopter.

Actions Since AD 2013-20-13 Was Issued

Since the FAA issued AD 2013-20-13, Transport Canada, which is the aviation authority for Canada, issued Canadian AD No. CF-2018-23, dated August 22, 2018, which advises that Rolls Royce has expanded the RPM (N2) steady-state operation avoidance range limits due to several failures of the third stage turbine wheel. According to Transport Canada, Rolls Royce determined that detrimental vibrations could occur within a particular range of turbine speeds, which may be a contributing factor to these failures. Accordingly, Rolls Royce has expanded the steady-state operation avoidance range limits. Bell has also amended the RFMs and the engine starting procedures for RPM (N2) and provided a new decal (placard) to inform pilots to avoid steady-state operations at those engine turbine speeds. The Transport Canada AD mandates incorporating the amended RFM power plant operating limitations and engine starting procedures for RPM (N2) steady-state operation and installing a new decal.

FAA's Determination

These helicopters have been approved by the aviation authority of Canada and are approved for operation in the United States. Pursuant to the FAA's bilateral agreement with Canada, Transport Canada, its technical representative, has notified the FAA of the unsafe condition described in the Transport Canada AD. The FAA is proposing this AD after evaluating all known relevant information and determining that an unsafe condition is likely to exist or develop on other helicopters of the same type design.

Related Service Information Under 1 CFR Part 51

The FAA reviewed the following service information, which contains revised operating limitations and engine starting instructions:

• Section 1, Operating Limitations, page 1-2A, of Bell Model 206B RFM BHT-206B-FM-1, Revision B-54, dated May 30, 2018 (BHT-206B-FM-1).

• Section 2, Normal Procedures, page 2-8 of BHT-206B-FM-1.

• Section 1, Limitations, page 1-5, of Bell Model 206B3 RFM BHT-206B3-FM-1, Revision 17, dated May 30, 2018 (BHT-206B3-FM-1).

• Section 2, Normal Procedures, page 2-10 of BHT-206B3-FM-1.

• Section 1, Operating Limitations, page 1-4B, of Bell Model 206L RFM BHT-206L-FM-1, Revision 31, dated May 30, 2018 (BHT-206L-FM-1).

• Section 2, Normal Procedures, page 2-10 of BHT-206L-FM-1.

This service information is reasonably available because the interested parties have access to it through their normal course of business or by the means identified in the ADDRESSES section.

Other Related Service Information

The FAA reviewed Bell Alert Service Bulletin (ASB) 206-07-115, Revision D, for Model 206A and 206B helicopters, and ASB 206L-07-146, Revision C, for Model 206L helicopters, each dated July 9, 2018. This service information contains procedures for installing a decal (placard) on the instrument panel below the Nr/N2 RPM dual tachometer indicator and inserting the RFM changes into the RFM.

Proposed AD Requirements

This proposed AD would require revising the Operating Limitations and the Normal Procedures sections of the existing RFM for your helicopter. This proposed AD would also require installing or replacing a placard. The proposed actions would be required within 25 hours time-in-service (TIS).

Differences Between This Proposed AD and the Transport Canada AD

The Transport Canada AD requires compliance within 30 calendar days, while this proposed AD would require compliance within 25 hours TIS.

Costs of Compliance

The FAA estimates that this proposed AD would affect 934 helicopters of U.S. Registry. The FAA estimates that operators may incur the following costs in order to comply with this proposed AD. Labor costs are estimated at $85 per work-hour.

Amending the existing RFM for your helicopter would take about 0.5 work-hour, for an estimated cost of $43 per helicopter and $40,162 for the U.S. fleet.

Installing or replacing a placard would take about 0.2 work-hour and parts would cost about $20, for a cost of $37 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing airworthiness directive (AD) 2013-20-13, Amendment 39-17619 (78 FR 66252, November 5, 2013); and

b. Adding the following new AD:

Bell Textron Canada Limited Helicopters: Docket No. FAA-2020-1175; Product Identifier 2018-SW-071-AD.

(a) Applicability

This airworthiness directive (AD) applies to the following Bell Textron Canada Limited (Bell) helicopters, certificated in any category:

(1) Bell Model 206B, serial number (S/N) 004 through 4690 inclusive, including helicopters converted from Model 206A; and

Note 1 to paragraph (a)(1): Helicopters with a 206B3 designation are Model 206B helicopters.

(2) Bell Model 206L, S/N 45001 through 45153 inclusive, and 46601 through 46617 inclusive.

(b) Unsafe Condition

This AD defines the unsafe condition as a third stage turbine vibration. This condition could result in turbine failure, engine power loss, and subsequent loss of control of the helicopter.

(c) Affected ADs

This AD supersedes AD 2013-20-13, Amendment 39-17619 (78 FR 66252, November 5, 2013).

(d) Comments Due Date

The FAA must receive comments by April 26, 2021.

(e) Compliance

You are responsible for performing each action required by this AD within the specified compliance time unless it has already been accomplished prior to that time.

(f) Required Actions

Within 25 hours time-in-service:

(1) For Bell Model 206B helicopters:

(i) Revise the existing Rotorcraft Flight Manual (RFM) for your helicopter by inserting Section 1, Operating Limitations, page 1-2A, of Bell Model 206B RFM BHT-206B-FM-1, Revision B-54, dated May 30, 2018 (BHT-206B-FM-1) or Section 1, Limitations, page 1-5, of Bell Model 206B3 RFM BHT-206B3-FM-1, Revision 17, dated May 30, 2018 (BHT-206B3-FM-1), as applicable to your helicopter. Inserting a different document with “Steady-state operation” information identical to page 1-2A of BHT-206B-FM-1 or page 1-5 of BHT-206B3-FM-1, as applicable to your helicopter, is acceptable for compliance with the requirements of this paragraph.

(ii) Revise the existing RFM for your helicopter by inserting Section 2, Normal Procedures, page 2-8 of BHT-206B-FM-1 or Section 2, Normal Procedures, page 2-10 of BHT-206B3-FM-1, as applicable to your helicopter. Inserting a different document with “Continuous Operation” information identical to page 2-8 of BHT-206B-FM-1 or page 2-10 of BHT-206B3-FM-1, as applicable to your helicopter, is acceptable for compliance with the requirements of this paragraph.

(iii) Remove placard part number (P/N) 230-075-213-121, if installed.

(iv) Install placard P/N 230-075-213-129 or placard P/N 230-075-213-131 on the instrument panel directly below the dual tachometer.

(2) For Bell Model 206L helicopters:

(i) Revise the existing RFM for your helicopter by inserting Section 1, Operating Limitations, page 1-4B, of Bell Model 206L RFM BHT-206L-FM-1, Revision 31, dated May 30, 2018 (BHT-206L-FM-1). Inserting a different document with “Steady-state operation” information identical to page 1-4B of BHT-206L-FM-1 is acceptable for compliance with the requirements of this paragraph.

(ii) Revise the existing RFM for your helicopter by inserting Section 2, Normal Procedures, page 2-10 of BHT-206L-FM-1. Inserting a different document with “Continuous Operation” information identical to page 2-10 of BHT-206L-FM-1 is acceptable for compliance with the requirements of this paragraph.

(iii) Remove placard P/N 230-075-213-123, if installed.

(iv) Install placard P/N 230-075-213-129 or placard P/N 230-075-213-131 on the instrument panel below the dual tachometer.

(g) Alternative Methods of Compliance (AMOCs)

(1) The Manager, International Validation Branch, FAA, may approve AMOCs for this AD. Send your proposal to: Michael Hughlett, Aviation Safety Engineer, General Aviation & Rotorcraft Section, International Validation Branch, FAA, 10101 Hillwood Pkwy., Fort Worth, TX 76177; telephone 817-222-5889; email 9-AVS-AIR-730-AMOC@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(h) Additional Information

(1) Bell Alert Service Bulletin (ASB) 206-07-115, Revision D, and ASB 206L-07-146, Revision C, each dated July 9, 2018, which are not incorporated by reference, contain additional information about the subject of this AD. For a copy of this service information, contact Bell Textron Canada Limited, 12,800 Rue de l'Avenir, Mirabel, Quebec J7J 1R4; telephone 450-437-2862 or 800-363-8023; fax 450-433-0272; or at https://www.bellcustomer.com. You may view this service information at the FAA, Office of the Regional Counsel, Southwest Region, 10101 Hillwood Pkwy., Room 6N-321, Fort Worth, TX 76177.

(2) The subject of this AD is addressed in Transport Canada AD No. CF-2018-23, dated August 22, 2018. You may view the Transport Canada AD on the internet in the AD Docket at https://www.regulations.gov.

(i) Subject

Joint Aircraft Service Component (JASC) Code: 7250, Turbine Section.

Issued on January 27, 2021.
Lance T. Gant,
Director, Compliance & Airworthiness Division, Aircraft Certification Service.

[FR Doc. 2021-05093 Filed 3-10-21; 8:45 am]

BILLING CODE 4910-13-P